UNIFIED CARRIER REGISTRATION PLAN

Board of Directors; Request for Nomination

AGENCY: Unified Carrier Registration Plan.

ACTION: Notice.

SUMMARY: The Unified Carrier Registration (UCR) Plan Board of Directors (Board) is requesting nominations of qualified individuals for possible appointment by the FMCSA to one of the Board's motor carrier industry positions. Each nominee must be a representative of “a motor carrier that falls within the smallest fleet fee bracket.” The term for this position will begin immediately upon appointment and expire on May 31, 2027.

DATES: Nominations of or expressions of interest by qualified individuals, along with accompanying resumes, must be received on or before May 12, 2025.

ADDRESSES: Nominations of or expressions of interest by qualified individuals may be received by any of the following methods—internet, regular mail, courier, or hand-delivery.

Mail, Courier, or Hand-Delivery: Unified Carrier Registration Plan, Attention: Matt Mantione, 529 14th Street NW, Suite 1280, Washington, DC 20045, internet: mmantione@plan.ucr.gov.

FOR FURTHER INFORMATION CONTACT: Elizabeth Leaman, Chair, Unified Carrier Registration Plan Board of Directors, (617) 305-3783, eleaman@board.ucr.gov.

SUPPLEMENTARY INFORMATION:

Background: Congress established the UCR plan and agreement in Section 4305(b) of the Safe, Accountable, Flexible, Efficient Transportation Equity Act: A Legacy for Users (SAFETEA-LU) [Pub. L. 109-59,119 Stat. 1144, August 10, 2005], codified at 49 U.S.C. 14504a. The UCR Plan is defined at 49 U.S.C. 14504a(a)(9) as the organization of State, Federal, and industry representatives responsible for developing, implementing, and administering the UCR Agreement, under which motor carriers, motor private carriers of property, brokers, freight forwarders, and leasing companies involved in interstate transportation must register and pay certain fees.

Section 14504a(d)(1)(B) directed the Secretary of Transportation to establish a UCR Plan Board of Directors made up of 15 members from FMCSA, State Governments, and the motor carrier industry. The establishment of the Board was announced in the Federal Register on May 12, 2006 (71 FR 27777). The Board is responsible for issuing the rules and regulations that govern the UCR Agreement and making recommendations to the Secretary of Transportation regarding any adjustments to the fees assessed against carriers, leasing companies, brokers, and freight forwarders under the UCR Agreement.

Section 14504a(d)(1)(B) provides that the Board must consist of directors from the following groups:

Federal Motor Carrier Safety Administration: One director must be selected from each of the FMCSA service areas (as defined by FMCSA on January 1, 2005) from among the chief administrative officers of the State agencies responsible for administering the UCR Agreement.

State Agencies: The five directors selected to represent State agencies must be from among the professional staffs of State agencies responsible for overseeing the administration of the UCR Agreement.

Motor Carrier Industry: Five directors must be from the motor carrier industry. At least one of the five motor carrier industry directors must be from “a national trade association representing the general motor carrier of property industry” and one of them must represent “a motor carrier that falls within the smallest fleet fee bracket.”

U.S. Department of Transportation (the Department): One individual, either the FMCSA Deputy Administrator or such other Presidential appointee from the Department appointed by the Secretary, represents the Department.

The Board is soliciting nominations of or expressions of interest by qualified individuals who are interested in being considered by the FMCSA for appointment to the Board as a representative of “a motor carrier that falls within the smallest fleet fee bracket.” The Board previously published a notice in the Federal Register, soliciting nominations or expressions of interest for all five industry positions, on Wednesday, March 27, 2024. (89 FR 21419). However, only one nomination or expression of interest for the position held by a representative of a motor carrier that falls within the smallest fleet fee bracket was received. For this reason, the UCR Plan Board of Directors is again requesting nominations of or expressions of interest from individuals representing a motor carrier that falls within the smallest fleet fee bracket. The successful nominee's term will take effect immediately upon appointment and expire on May 31, 2027.

All nominations of or expressions of interest for the director position described above must be submitted on or before May 12, 2025. Nominations or expressions of interest should indicate that the individual nominated or interested meets the statutory requirements specified in 49 U.S.C. 14504a(d)(1)(B). All applications must include a current resume.

As the authority to appoint individuals to the Board lies with Secretary of Transportation and has been delegated to FMCSA, the Board will forward all nominations or expressions of interest to FMCSA for consideration. The UCR Plan Board may, but is not required to, recommend to FMCSA the appointment of individuals from among the nominations or expressions of interest received. If the Board does make such recommendation(s), it will do so after consideration during an open meeting in compliance with the Government in the Sunshine Act that includes such recommendation(s) as part of the subject matter of the meeting.

Alex B. Leath,
Chief Legal Officer, Unified Carrier Registration Plan.

[FR Doc. 2025-06198 Filed 4-10-25; 8:45 am]

BILLING CODE 4910-YL-P